DEPARTMENT OF LABOR

Employment and Training Administration

[TA-W-74,390]

Haldex Brake Corporation, Commercial Vehicle Systems, Including On-Site Leased Workers of Johnston Integration Technologies, a Subsidiary of Johnston Companies, Iola, KS; Amended Certification Regarding Eligibility To Apply for Worker Adjustment Assistance

In accordance with Section 223 of the Trade Act of 1974, as amended (“Act”), 19 U.S.C. 2273, the Department of Labor issued a Certification of Eligibility to Apply for Worker Adjustment Assistance on August 19, 2010, applicable to workers of Haldex Brake Corporation, Commercial Vehicle Systems, Iola, Kansas. The Department's notice of determination was published in the Federal Register on September 3, 2010 (75 FR 54186).

At the request of the State workforce agency, the Department reviewed the certification for workers of the subject firm. The workers were engaged in the production of automotive brake system components.

The company reports that workers leased from Johnston Integration Technologies, a subsidiary of Johnston Companies were employed on-site at the Iola, Kansas location of Haldex Brake Corporation. The Department has determined that these workers were sufficiently under the control of the subject firm to be considered leased workers.

Based on these findings, the Department is amending this certification to include workers leased from Johnston Integration Technologies, a subsidiary of Johnston Companies working on-site at the Iola, Kansas location of Haldex Brake Corporation.

The amended notice applicable to TA-W-74,390 is hereby issued as follows:

All workers of Haldex Brake Corporation, Commercial Vehicle Systems, including on-site leased workers of Johnston Integration Technologies, a subsidiary of Johnston Companies, Iola, Kansas, who became totally or partially separated from employment on or after July 15, 2009 through August 19, 2012, and all workers in the group threatened with total or partial separation from employment on the date of certification through two years from the date of certification, are eligible to apply for adjustment assistance under Chapter 2 of Title II of the Trade Act of 1974, as amended.

Signed in Washington, DC this 24th day of November, 2010.
Elliott S. Kushner,
Certifying Officer, Office of Trade Adjustment Assistance.

[FR Doc. 2010-30746 Filed 12-7-10; 8:45 am]

BILLING CODE 4510-FN-P